DEPARTMENT OF ENERGY

10 CFR Part 430

[EERE-2017-BT-STD-0014]

RIN 1904-AD98

Energy Conservation Program: Energy Conservation Standards for Residential Clothes Washers; Reopening of Comment Period

AGENCY: Office of Energy Efficiency and Renewable Energy, Department of Energy.

ACTION: Notification of data availability; reopening of public comment period.

SUMMARY: The U.S. Department of Energy (“DOE”) is reopening the public comment period for the notification of data availability (“NODA”) that published in the Federal Register on April 13, 2022, regarding additional testing conducted in furtherance of the development of the translations between the current test procedure and the proposed new test procedure for residential clothes washers.

DATES: The comment period for the NODA that published in the Federal Register on April 13, 2022 (87 FR 21816) is reopened. DOE will accept comments, data, and information regarding this NODA no later than May 27, 2022.

ADDRESSES: Interested persons are encouraged to submit comments using the Federal eRulemaking Portal at www.regulations.gov. Follow the instructions for submitting comments. Alternatively, interested persons may submit comments, identified by docket number EERE-2017-BT-STD-0014 by any of the following methods:

(1) Federal eRulemaking Portal: www.regulations.gov. Follow the instructions for submitting comments.

(2) Email: ConsumerClothesWasher2017STD0014@ee.doe.gov. Include the docket number EERE-2017-BT-STD-0014 or regulatory information number (“RIN”) 1904-AD98 in the subject line of the message.

No telefacsimiles (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2017-BT-STD-0014. The docket web page contains instructions on how to access all documents, including public comments in the docket.

FOR FURTHER INFORMATION CONTACT:

Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Kathryn McIntosh, U.S. Department of Energy, Office of the General Counsel, GC-33, 1000 Independence Avenue SW, Washington, DC 20585-0121. Telephone: (202) 586-2002. Email: KathrynMcIntosh@hq.doe.gov.

For further information on how to submit a comment or review other public comments and the docket contact the Appliance and Equipment Standards Program staff at (202) 287-1445 or by email: ApplianceStandardsQuestions@ee.doe.gov.

SUPPLEMENTARY INFORMATION: On September 1, 2021, DOE published a test procedure notice of proposed rulemaking proposing to establish a new test procedure for residential clothes washers (“RCWs”) at 10 CFR part 430, subpart B, appendix J, which would establish new energy efficiency metrics: An “energy efficiency ratio” and a “water efficiency ratio.” 86 FR 49140.

On September 29, 2021, DOE published a preliminary analysis of energy conservation standards for RCWs, which presented preliminary translations between the energy and water efficiency metrics as measured by the current test procedure and the new energy and water efficiency metrics as measured by the proposed new test procedure. 86 FR 53886.

On April 13, 2022, DOE published a NODA presenting the results of additional testing conducted in furtherance of the development of the translations between the current test procedure and the proposed new test procedure. 87 FR 21816. DOE requested comments, data, and information regarding the data. Comments were originally due on May 13, 2022.

On May 4, 2022, DOE received a comment from the Association of Home Appliance Manufacturers (“AHAM”) requesting that DOE hold a public meeting where stakeholders may raise questions and seek clarity on DOE's data presented in the NODA. In its comment, AHAM summarized its questions regarding the data presented in the NODA. AHAM additionally requested a comment period extension of 30 days from the date of the public meeting.

DOE has reviewed the request, including the specific questions raised in the comment, and has considered the benefit to stakeholders in providing additional data and information to address these questions and additional time to review such information. DOE will provide additional data and information in a separate notification to be made available in the rulemaking docket. Accordingly, DOE has determined that an extension of the comment period is appropriate and is hereby reopening the comment to May 27, 2022. DOE specifically encourages AHAM to submit data and results of any testing performed by AHAM members so that these may be made available to interested parties in the docket for this rulemaking.

Signing Authority

This document of the Department of Energy was signed on May 13, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 13, 2022.
Treena V. Garrett,
Federal Register Liaison Officer, U.S. Department of Energy.

[FR Doc. 2022-10713 Filed 5-18-22; 8:45 am]

BILLING CODE 6450-01-P